DEPARTMENT OF JUSTICE

[OMB Number 1110-0046]

Agency Information Collection Activities; Proposed eCollection eComments Requested; Revision of a Currently Approved Collection; Friction Ridge Cards: Arrest and Institution FD-249; Applicant FD-258; Identity History Summary Request FD-1164; FBI Standard Palm Print FD-884; Supplemental Finger and Palm Print FD-884a; Voluntary Appeal File Fingerprint FD-1212; Firearm-Related Challenge Fingerprint FD-1211

AGENCY: Criminal Justice Information Services (CJIS) Division, Federal Bureau of Investigation (FBI), Department of Justice (DOJ).

ACTION: 30-Day notice.

SUMMARY: The DOJ, FBI, CJIS Division, will be submitting the following information collection request to the Office of Management and Budget (OMB) for review and approval in accordance with the Paperwork Reduction Act of 1995.

DATES: Comments are encouraged and will be accepted for 30 days until September 13, 2024.

FOR FURTHER INFORMATION CONTACT: If you have comments especially on the estimated public burden or associated response time, suggestions, or need a copy of the proposed information collection instrument with instructions or additional information, please contact: Brian A. Cain, Management and Program Analyst, FBI, CJIS, Criminal History Information and Policy Unit, BTC-3, 1000 Custer Hollow Road, Clarksburg, WV 26306; phone: 304-625-5590 or email bacain@fbi.gov.

SUPPLEMENTARY INFORMATION: The proposed information collection was previously published in the Federal Register on June 28, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0046. This information collection request may be viewed at www.reginfo.gov. Follow the instructions to view DOJ, information collections currently under review by OMB.

DOJ seeks PRA authorization for this information collection for three (3) years. OMB authorization for an Information Clearance Request (ICR) cannot be for more than three (3) years without renewal. The DOJ notes that information collection requirements submitted to the OMB for existing ICRs receive a month-to-month extension while they undergo review.

Overview of this information collection:

1. Type of Information Collection: Revision of a previously approved collection.

2. Title of the Form/Collection: Friction Ridge Cards.

3. Agency form number, if any, and the applicable component of the DOJ sponsoring the collection: Forms FD-249 (Arrest and Institution), FD-258 (Applicant), and FD-1164 (Identity History Summary Request); FD-884 (FBI Standard Palm Print); FD-884a (Supplemental Finger and Palm Print); FD-1212 (Voluntary Appeal File Fingerprint); FD-1211 (Firearm-Related Challenge Fingerprint) encompassed under OMB 1110-0046; DOJ, FBI, CJIS Division.

4. Affected public who will be asked or required to respond, as well as a brief abstract: Primary: City, county, State, Federal and Tribal law enforcement agencies; civil entities requesting security clearance and background checks. This collection is needed to collect information on individuals requesting background checks, security clearance, or those individuals who have been arrested for or accused of criminal activities. Acceptable data is stored as part of the Next Generation Identification System (NGI) of the FBI.

5. Obligation to Respond: Mandatory: Title 28, United States Code, section 534.

6. Total Estimated Number of Respondents: 459,238.

7. Estimated Time per Respondent: 10 minutes.

8. Frequency: Annually.

9. Total Estimated Annual Time Burden: 12.4 million hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: August 9, 2024.
Darwin Arceo,
Department Clearance Officer for PRA, U.S. Department of Justice.

[FR Doc. 2024-18119 Filed 8-13-24; 8:45 am]

BILLING CODE 4410-02-P